DEPARTMENT OF DEFENSE

Office of the Secretary

[Docket ID: DoD-2015-OS-0005]

Proposed Collection; Comment Request

AGENCY: Office of the Under Secretary of Defense (Personnel and Readiness), DoD.

ACTION: Notice.

SUMMARY: In compliance with the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 30, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense (Personnel and Readiness), Department of Defense Education Activity (DoDEA), ATTN: Dr. Sandra Embler, Alexandria, VA 22305, or call DoDEA Research and Evaluation Branch at 571-372-6006.

SUPPLEMENTARY INFORMATION: Title; Associated Form; and OMB Number: Department of Defense Education Activity (DoDEA) Non-Sponsored Research Program—Research Study Request form; DoDEA Form 2071.3-F1; OMB Control Number: 0704-0457.

Needs and Uses: The DoDEA receives requests from researchers to conduct non-DoDEA sponsored research studies in DoDEA schools, districts, and/or areas. To review the proposed research requests, DoDEA is seeking renewal for the DoDEA Administrative Instruction 2071.3 (DoDEA AI 2071.3) that includes Form 1, “Research Study Request.” The DoDEA “Research Study Request” collects information about the researcher, the research project, audience, timeline, and the statistical analyses that will be conducted during the proposed research study. This information is needed to ensure that the proposed non-DoDEA sponsored research does not unduly interfere with the classroom instructional process or the regular operations of the school, district, and/or areas.

Affected Public: Individuals or households.

Annual Burden Hours: 50 hours.

Number of Respondents: 50.

Responses per Respondent: 1.

Total Annual Responses: 50.

Average Burden per Response: 1 hour.

Frequency: On Occasion.

The DoDEA Administrative Instruction 2071.3 (DoDEA AI 2071.3) follows the DoD Directive 3216.2, “Protection of Human Subjects and Adherence to Ethical Standards in DoD-Supported Research,” March 25, 2002, which states that “The rights and welfare of human subjects in research supported or conducted by the DoD Components shall be protected. This protection encompasses basic respect for persons, beneficence, and justice in the selection of subjects.” To ensure that all non-DoDEA sponsored research conducted in the DoDEA school system aligns with these directives, DoDEA created the DoDEA AI 2071.3-Form 1, “Research Study Request” that collects information that is necessary to review the proposed research study. The “Research Study Request” is required from individuals or organizations who wish to conduct research that involve DoDEA school personnel, school facilities, sponsors, students, and/or data. This documentation is required to show that the research meets all the requirements for human subjects protection, has scientific merit, and does not unduly interfere with the classroom instructional process or the regular operations of the school, district, and/or areas. Information collected on the DoDEA AI 2071.3-Form 1 includes the researchers name, address, telephone number, email address, FAX number (if available), school affiliation (if applicable), the study title, and the study methodology, including the hypotheses to be tested, the proposed population, and the statistical methodologies that will be employed.

Dated: January 23, 2015.
Aaron Siegel,
Alternate OSD Federal Register Liaison Officer, Department of Defense.

[FR Doc. 2015-01579 Filed 1-27-15; 8:45 am]

BILLING CODE 5001-06-P